DEPARTMENT OF ENERGY

Federal Energy Regulatory Commission

[Docket No. RP04-276-004]

Southern Star Central Gas Pipeline, Inc.; Notice of Compliance Filing

June 16, 2005.

Take notice that on April 20, 2005, Southern Star Central Gas Pipeline, Inc., (Southern Star) tendered for filing as part of its FERC gas tariff, the following tariff sheets, to become effective as designated in accordance with Article V of the stipulation and agreement filed on January 21, 2005:

Original Volume No. 1

Effective November 1, 2004

2nd Substitute Third Revised Sheet No. 10

2nd Substitute Third Revised Sheet No. 11

Effective December 1, 2004

Substitute Fourth Revised Sheet No. 10

Substitute Fourth Revised Sheet No. 11

Original Volume No. 2

Effective November 1, 2004

2nd Substitute First Revised Sheet No. 327

Southern Star states that the filing is being made in compliance with Article V of the stipulation and agreement filed with the Commission on January 21, 2005, in Docket No. RP04-276-000, as approved by the Commission's order dated April 18, 2005 (111 FERC ¶ 61,069) (2005). Article V of the settlement and paragraph 5 of the order provide that Southern Star shall file actual tariff sheets to become effective consistent with Article VII, which details the effectiveness and term of the settlement and further states that the Commission order approving the settlement shall constitute approval of the revised rates that were submitted with the settlement on pro forma sheets.

Southern Star states that copies of the filing are being served upon all parties on the official service list, to Southern Star's jurisdictional customers and to interested state commissions.

Any person desiring to protest this filing must file in accordance with Rule 211 of the Commission's Rules of Practice and Procedure (18 CFR 385.211). Protests to this filing will be considered by the Commission in determining the appropriate action to be taken, but will not serve to make protestants parties to the proceeding. Such protests must be filed on or before the date as indicated below. Anyone filing a protest must serve a copy of that document on all the parties to the proceeding.

The Commission encourages electronic submission of protests in lieu of paper using the “eFiling” link at http://www.ferc.gov. Persons unable to file electronically should submit an original and 14 copies of the protest to the Federal Energy Regulatory Commission , 888 First Street, NE., Washington, DC 20426.

This filing is accessible on-line at http://www.ferc.gov, using the “eLibrary” link and is available for review in the Commission's Public Reference Room in Washington, DC. There is an “eSubscription” link on the Web site that enables subscribers to receive email notification when a document is added to a subscribed docket(s). For assistance with any FERC Online service, please email FERCOnlineSupport@ferc.gov, or call (866) 208-3676 (toll free). For TTY, call (202) 502-8659.

Protest Date: 5 p.m. Eastern Time on June 23, 2005.

Magalie R. Salas,
Secretary.

[FR Doc. E5-3244 Filed 6-21-05; 8:45 am]

BILLING CODE 6717-01-P